DEPARTMENT OF LABOR

Employment and Training Administration

[TA-W-37,411]

The Monet Group, Incorporated; East Providence, RI; Amended Certification Regarding Eligibility To Apply for Worker Adjustment Assistance

In accordance with Section 223 of the Trade Act of 1974 (19 U.S.C. 2273) the Department of Labor issued a Certification of Eligibility to Apply for Worker Adjustment Assistance on March 28, 2000, applicable to workers of The Monet Group, Incorporated, East Providence, Rhode Island. The notice was published in the Federal Register on April 21, 2000 (65 FR 21473).

At the request of the State agency, the Department reviewed the certification for workers of the subject firm. New findings show that some employees of The Monet Group, Incorporated, now known as Monet International, Incoporated, subsidiary of Liz Caliborne, Incorporated, East Providence, Rhode Island were leased from Pomerantz Staffing Alternatives, Providence, Rhode Island to produce fashion jewelry at the East Providence, Rhode Island facility. Information also shows that some workers separated from employment at the subject firm had their wages reported under a separate unemployment insurance (UI) tax account for Pomerantz Staffing Alternatives.

Based on these findings, the Department is amending the certification include workers of Pomerantz Staffing Alternatives leased to The Monet Group, Incorporated, now known as Monet International, Incorporated, subsidiary of Liz Caliborne, Incorporated, East Providence, Rhode Island.

The amended notice applicable to TA-W-37,411 is hereby issued as follows:

“All workers of Monet Group, Incorporated, now known as Monet International, Incorporated, a subsidiary of Liz Caliborne, Incorporated, East Providence, Rhode Island (TA-W-37,411) and leased workers of Pomerantz Staffing Alternatives, Providence, Rhode Island who were engaged in employment related to the production of fashion jewelry for the Monet Group, Incorporated, now known as Monet International, Incorporated, a subsidiary of Liz Caliborne, Incorporated, East Providence, Rhode Island who became totally or partially separated from employment on or after May 5, 2000 through March 28, 2002 are eligible to apply for adjustment assistance under Section 223 of the Trade Act of 1974.

Signed at Washington, DC this 23rd day of January, 2001.
Linda G. Poole,
Certifying Officer, Division of Trade Adjustment Assistance.

[FR Doc. 01-3299 Filed 2-7-01; 8:45 am]

BILLING CODE 4510-30-M